DEPARTMENT OF TRANSPORTATION

Research and Special Programs Administration

[Docket RSPA-98-4957; Notice 27]

Extension of Existing Information Collection

AGENCY: Research and Special Programs Administration, DOT.

ACTION: Request for OMB approval and public comments.

SUMMARY: As required by the Paperwork Reduction Act of 1995, the Research and Special Programs Administration (RSPA) published a notice seeking public comments on a proposed renewal of an information collection for Incorporation by Reference of Industry Standard on Leak Detection (65 FR 81571, December 26, 2000). This information collection requires that hazardous pipeline operators who have leak detection systems must maintain records of these systems. No comments were received. The public is being given another 30 days to provide comments.

DATES: Comments on this notice must be received April 16, 2001.

ADDRESSES: Comments should identify the docket number of this notice, RSPA-98-4957, and be mailed directly to OMB, Office of Information and Regulatory Affairs, 726 Jackson Place, NW., Washington, DC 20503, ATTN: Desk Officer for DOT.

FOR FURTHER INFORMATION CONTACT: Marvin Fell, Office of Pipeline Safety, Research and Special Programs Administration, Department of Transportation, 400 Seventh Street, SW., Washington, DC 20590, (202) 366-6205 or by electronic mail at marvin.fell@rspa.dot.gov.

SUPPLEMENTARY INFORMATION: Title: Incorporation by Reference of Industry Standard on Leak Detection.

OMB Number: 2137-0598.

Type of Request: Extension of an existing information collection.

Abstract: Pipeline safety regulations do not require hazardous liquid pipeline operators to have computer-based leak detection systems. However, if these operators choose to voluntarily acquire such software-based leak detection systems they must adhere to the American Petroleum Institute Standard API 1130 in operating, maintaining and testing their existing software-based leak detection systems. The testing information of these systems must be maintained by hazardous liquid pipeline operators.

Respondents: Hazardous liquid pipeline operators that use computational monitoring systems (CPM's) for leak detection.

Estimate of Burden: 2 hours per operator.

Estimated Number of Responses per Respondent: 1.

Estimated Total Burden: 100 hours.

Estimated Number of Respondents: 50.

Copies of this information collection can be reviewed at the Dockets Facility, Plaza 401, U.S. Department of Transportation, 400 Seventh Street, SW., Washington, DC 20590 from 9 a.m. to 5 p.m., Monday through Friday except Federal holidays. They also can be viewed over the Internet at http://dms.dot.gov.

Comments are invited on: (a) The need for the proposed collection of information for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including the use of appropriate automated, electronic, mechanical, or other technological collection techniques.

Issued in Washington, DC on March 12, 2001.
Stacey L. Gerard,
Associate Administrator for Pipeline Safety.

[FR Doc. 01-6537 Filed 3-15-01; 8:45 am]

BILLING CODE 4910-60-P